DEPARTMENT OF LABOR

Employment and Training Administration

Comment Request for Information Collection: American Recovery and Reinvestment Act (ARRA), High Growth and Emerging Industries (HGEI) Grants, Extension With no Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

As all of the ARRA HGEI grants will no longer be active once the current OMB-approved collection no. 1205-0478 expires on November 30, 2013, ETA is soliciting comments concerning the collection of data for the active Green Jobs Innovation Fund (GJIF) grants.

DATES: Written comments must be submitted to the office listed in the addresses section below on or before October 7, 2013.

ADDRESSES: Submit written comments to Sarah Sunderlin, Division of Strategic Investments, Room C4526, Employment and Training Administration, U.S. Department of Labor, 200 Constitution Avenue NW., Washington, DC 20210. Telephone number: 202-693-2963 (this is not a toll-free number). Individuals with hearing or speech impairments may access the telephone number above via TTY by calling the toll-free Federal Information Relay Service at 1-877-889-5627 (TTY/TDD). Fax: 202-693-3890. Email: green.jobs@dol.gov. A copy of the proposed information collection request (ICR) can be obtained by contacting the office listed above.

SUPPLEMENTARY INFORMATION:

I. Background

The American Recovery and Reinvestment Act of 2009 (The Recovery Act) was signed into law by President Obama on February 17, 2009. Funding directed to the Department of Labor from the Recovery Act provided $750 million for a program of competitive grants for worker training and placement in high growth and emerging industries, which included $500 million in funding for energy efficiency and renewable energy, often referred to as “green jobs.” In the FY 2010 budget, approximately $40 million in grant funds were authorized by the Workforce Investment Act (WIA) of 1998, Title I, Subtitle D, Section 171(d), Public Law 105-220 for GJIF. With grants funded through GJIF, the Department is emphasizing two key workforce strategies that move participants along green career pathways by: (1) Forging linkages between Registered Apprenticeship and pre-apprenticeship programs, and/or (2) integrating the delivery of technical and basic skills training through community-based partnerships.

It is critical to record the impact of all these resources, current information on participants in these grants, and the services provided to them. ETA received initial approval for this information collection in June, 2010. The ARRA HGEI grants will all end by November 30, 2013, but to ensure that it can continue to obtain comprehensive information on participants served by and services provided with Federal resources, ETA proposes an extension with no revisions of the existing OMB-approved information collection set #1205-0478 for GJIF grantees.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with no revisions.

Title: American Recovery and Reinvestment Act (ARRA), High Growth and Emerging Industries (HGEI) Grants.

OMB Number: 1205-0478.

Affected Public: GJIF Grantees only. All ARRA HEGI grants will have ended prior to the expiration of the current OMB-approved ICR.

Form(s): ETA-9153.

Total Annual Respondents: 6.

Annual Frequency: Quarterly.

Total Annual Responses: 24.

Average Time per Response: 16 Hours.

Estimated Total Annual Burden Hours: 384 Hours.

Total Annual Burden Cost for Respondents: $0.

Comments submitted in response to this comment request will be summarized and/or included in the request for OMB approval of the ICR; they will also become a matter of public record.

Dated: July 31, 2013.
Eric M. Seleznow,
Acting Assistant Secretary for Employment and Training, Labor.

[FR Doc. 2013-19116 Filed 8-7-13; 8:45 am]

BILLING CODE 4510-FN-P